DEPARTMENT OF ENERGY

Federal Energy Regulatory Commission

Combined Notice of Filings

Take notice that the Commission has received the following Natural Gas Pipeline Rate and Refund Report filings:

Filings Instituting Proceedings

Docket Numbers: PR14-13-000.

Applicants: Acacia Natural Gas, L.L.C.

Description: Tariff filing per 284.123(e) + (g: Acacia Natural Gas Corporation Baseline Filing to be effective 1/7/2014 Filing Type: 1280.

Filed Date: 1/7/14.

Accession Number: 20140107-5056.

Comments Due: 5 p.m. ET 1/28/14.

284.123(g) Protests Due: 5 p.m. ET 3/10/14.

Docket Numbers: PR14-14-000.

Applicants: Lobo Pipeline Company L.P.

Description: Tariff filing per 284.123(e) + (g: compliance with PR13-65-000 to be effective 1/14/2014 Filing Type: 1280.

Filed Date: 1/14/14.

Accession Number: 20140114-5096.

Comments Due: 5 p.m. ET 2/4/14.

284.123(g) Protests Due: 5 p.m. ET 3/17/14.

Docket Numbers: RP14-369-000.

Applicants: PGPipeline LLC.

Description: PGPipeline, LLC Name Change in FERC Gas Tariff Filing to be effective 2/14/2014.

Filed Date: 1/15/14.

Accession Number: 20140115-5064.

Comments Due: 5 p.m. ET 1/27/14.

Docket Numbers: RP14-370-000.

Applicants: Bear Creek Storage Company, L.L.C.

Description: Operational Transactions to be effective 2/14/2014.

Filed Date: 1/15/14.

Accession Number: 20140115-5126.

Comments Due: 5 p.m. ET 1/27/14.

Docket Numbers: RP14-371-000.

Applicants: Colorado Interstate Gas Company, L.L.C.

Description: High Plains Expansion Non-Conforming Agreement Filing to be effective 2/15/2014.

Filed Date: 1/15/14.

Accession Number: 20140115-5170.

Comments Due: 5 p.m. ET 1/27/14.

Any person desiring to intervene or protest in any of the above proceedings must file in accordance with Rules 211 and 214 of the Commission's Regulations (18 CFR 385.211 and 385.214) on or before 5:00 p.m. Eastern time on the specified comment date(s). Protests may be considered, but intervention is necessary to become a party to the proceeding.

Filings in Existing Proceedlings

Docket Numbers: RP13-941-003.

Applicants: Southern Star Central Gas Pipeline, Inc.

Description: Rate Case (RP13-941) Test Period Update Filing.

Filed Date: 1/14/14.

Accession Number: 20140114-5083.

Comments Due: 5 p.m. ET 1/27/14.

Docket Numbers: RP13-1031-003.

Applicants: Trailblazer Pipeline Company LLC.

Description: Compliance to TB Rate Case 2014-01-15 to be effective 1/1/2014.

Filed Date: 1/15/14.

Accession Number: 20140115-5143.

Comments Due: 5 p.m. ET 1/27/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2014.
Nathaniel J. Davis, Sr.,
Deputy Secretary.

[FR Doc. 2014-01494 Filed 1-27-14; 8:45 am]

BILLING CODE 6717-01-P